U.S.-CHINA ECONOMIC AND SECURITY REVIEW COMMISSION

Notice of Open Public Meetings

AGENCY: U.S.-China Economic and Security Review Commission.

ACTION: Notice of open public meetings.

SUMMARY: The Commission is mandated by Congress to investigate, assess, and report to Congress annually on the “the national security implications of the economic relationship between the United States and the People's Republic of China.” Pursuant to this mandate, the Commission will hold a series of public meetings to review and edit drafts of the 2023 Annual Report to Congress.

DATES: These meetings of the Commission for review and edit of draft reports are called to order or adjourned by the Chairman as needed between the initial opening session on June 22, 2023 and the planned final session to be completed by October 5, 2023. The current schedule for review and editing sessions are planned for Thursday, June 22, 2023, from 9:30 a.m. to 5:00 p.m.; Thursday, July 27, 2023, from 9:30 a.m. to 5:00 p.m.; Friday, July 28, 2023, from 9:30 a.m. to 5:00 p.m. (as needed); Tuesday, August 22, 2023 from 9:30 a.m. to 5:00 p.m.; Thursday, September 7, 2023, from 9:30 a.m. to 5:00 p.m.; Friday, September 8, 2023, from 9:30 a.m. to 5:00 p.m. (as needed); Wednesday, October 4, 2023, from 9:30 a.m. to 5:00 p.m.; and Thursday, October 5, 2023, from 9:30 a.m. to 5:00 p.m. (as needed).

Reach out to the below contact for any updates to this schedule.

ADDRESSES: 444 North Capitol Street NW, Room 233/235, Washington, DC 20001. Public seating is limited and will be available on a “first-come, first-served” basis. Reservations are not required to attend the meetings.

FOR FURTHER INFORMATION CONTACT: Any member of the public seeking further information concerning the meetings should contact Jameson Cunningham, 444 North Capitol Street NW, Suite 602, Washington DC 20001; telephone: 202-624-1496, or via email at jcunningham@uscc.gov. Reservations are not required to attend the meetings.

ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Purpose of Meeting: Pursuant to the Commission's mandate, members of the Commission will meet to review and edit drafts of the 2023 Annual Report to Congress. The Commission is subject to the Federal Advisory Committee Act (FACA) with the enactment of the Science, State, Justice, Commerce and Related Agencies Appropriations Act, 2006 that was signed into law on November 22, 2005 (Pub. L. 109-108). In accordance with FACA, the Commission's meetings to make decisions concerning the substance and recommendations of its 2023 Annual Report to Congress are open to the public.

Topics To Be Discussed: Review and editing sessions will cover material prepared for the 2023 Annual Report, including: a review of economics, trade, security and foreign affairs developments in China and the U.S.-China relationship since the Commission's last Annual Report in November 2022; China's use of lawfare to change global norms; China's influence and interference; China's economy and the risks to U.S. investment; how China educates and trains its next generation workforce; the People's Liberation Army's military diplomacy; weapons technology and export controls; changing relations between China and Europe, Taiwan, and Hong Kong; and other matters within the Commission's mandate as the Commission chooses to take up in deliberation of the Annual Report.

Required Accessibility Statement: These meetings will be open to the public. The Commission may recess the meetings to address administrative issues in closed session. The Commission will also recess the meetings around noon for a lunch break or for other reasons as necessary. At the beginning of any break, the Chairman will announce what time the meetings will reconvene.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: June 2, 2023.
Daniel W. Peck,
Executive Director, U.S.-China Economic and Security Review Commission.

[FR Doc. 2023-12190 Filed 6-6-23; 8:45 am]

BILLING CODE 1137-00-P